DEPARTMENT OF AGRICULTURE

Food Safety and Inspection Service

[Docket No. 04-002N]

Bovine Spongiform Encephalopathy Teaching Workshops

AGENCY: Food Safety and Inspection Service, USDA.

ACTION: Notice.

SUMMARY: The Food Safety and Inspection Service (FSIS) is announcing that it will hold a series of teaching workshops from January through March 2004, to discuss the actions that FSIS has taken to prevent human exposure to Bovine Spongiform Encephalopathy (BSE) by ensuring that high-risk materials do not enter the human food supply. FSIS published three interim rules and a notice on January 12, 2004, that contain requirements for official establishments that slaughter cattle and process beef and beef products to prevent adulteration with the BSE agent. Each meeting will include an opportunity for the attendees to ask questions of the USDA representatives presiding over the meeting.

DATES: The workshops will be held on January 31, 2004 in Tacoma, WA; February 7, 2004 in Boise, ID; February 21, 2004 in Sioux Falls, SD; February 28, 2004 in Madison, WI; and March 6, 2004 in Binghamton, NY.

ADDRESSES:

January 31, 2004, in Tacoma, Washington—Sheraton Tacoma Hotel, 1320 Broadway Plaza, Tacoma, WA 98402, (253) 572-3200.

February 7, 2004, in Boise, Idaho—Red Lion Hotel Downtowner, 1800 Fairview Avenue, Boise, ID 83702, (208) 344-7691.

February 21, 2004, in Sioux Falls, South Dakota—Holiday Inn City Centre, 100 W. 8th St., Sioux Falls, SD 57104, (605) 339-2000.

February 28, 2004, in Madison, Wisconsin—Sheraton Madison Hotel, 706 John Nolen Drive, Madison, WI 53703, (608) 251-2300.

March 6, 2004, in Binghamton, New York—NYS Office of General Services, Binghamton State Office Building, 44 Hawley Street, Binghamton, NY 13901, (607) 722-0000 (This location may change).

A tentative agenda will be available in the FSIS Docket Room and on the Internet at http://www.fsis.usda.gov. FSIS highly recommends that attendees pre-register for the workshops. To pre-register please call 1 (800) 384-3100 and follow the prompts. Or you may register online at the following websites:

Tacoma, Washington: http://www.fsis.usda.gov/forms/reg_tacoma.asp

Boise, Idaho: http://www.fsis.usda.gov/forms/reg_boise.asp

Sioux Falls, South Dakota: http://www.fsis.usda.gov/forms/reg_siouxfalls.asp

Madison, Wisconsin: http://www.fsis.usda.gov/forms/reg_madison.asp

Binghamton, New York: http://www.fsis.usda.gov/forms/reg_binghamton.asp

FOR FURTHER INFORMATION CONTACT: Ms. Mary Harris of the FSIS Strategic Initiatives, Partnership and Outreach Staff at (202) 690-6497. If a sign language interpreter or other special accommodations are required, please contact Ms. Mary Harris, no later than January 29, 2004.

For technical information, please contact Ms. Mary Cutshall, Director, Strategic Initiatives, Partnerships and Outreach Staff, Office of Public Affairs, Education and Outreach, at (202) 690-6520.

SUPPLEMENTARY INFORMATION:

Background

On December 23, 2003, the U.S. Department of Agriculture activated its interagency emergency response plan for BSE. The emergency response was activated after the diagnosis of BSE in a Holstein cow slaughtered at an official establishment in the State of Washington. FSIS has taken several actions that are intended to prevent human exposure to materials that scientific studies have demonstrated can contain the BSE agent in cattle infected with the disease.

On January 12, 2004, FSIS published three interim final rules and a Federal Register notice to address this situation. The first, “Prohibition of the Use of Specified Risk Materials for Human Food and Requirements for the Disposition of Non-Ambulatory Disabled Cattle” prohibits the use of “specified risk materials” (SRM) from cattle in human food. The SRMs are defined in the rule as the brain, skull, eyes, trigeminal ganglia, spinal cord, vertebral column (excluding the vertebrae of the tail, the transverse processes of the thoracic and lumbar vertebrae, and the wings of the sacrum), and dorsal root ganglia of cattle 30 months of age or older and the tonsils and distal ileum of the small intestine of all cattle. The interim final rule also requires that all non-ambulatory disabled cattle that are presented for slaughter will be condemned.

The second rule, “Meat Produced by Advanced Meat/Bone Separation Machinery and Meat Recovery (AMR) Systems,” prohibits product prepared using AMR systems from being labeled as “meat” if it contains any spinal cord, dorsal root ganglia, trigeminal ganglia, or brain tissue from livestock. The Agency also established standards for the levels of calcium and iron in AMR product and banned the use of mechanically separated beef. AMR product from livestock other than cattle that contains central nervous-type tissues may be relabeled for use as MS product.

Another interim final rule, “Prohibition on the Use of Certain Stunning Devices Used to Immobilize Cattle During Slaughter,” will ban the use of air injection stunning in official establishments.

A Federal Register notice, “Bovine Spongiform Encephalopathy Surveillance Program,” specifies that FSIS will not permit the carcasses or parts of ambulatory, non-disabled cattle that have passed FSIS ante mortem inspection, but have been selected by the Animal and Plant Health Inspection Service for testing, to enter the human food supply until negative sample results for the BSE agent are received by FSIS. The workshops are designed to provide an overview of the new regulatory requirements to owners and operators of small and very small establishments that slaughter or process cattle or produce AMR product. The attendees will be provided with a more in-depth understanding of these new requirements to assist them in complying with these regulations. The workshops will also provide opportunities to discuss outreach to small and very small plants, ensuring that these establishments receive the guidance that they need to successfully respond to the new requirements. Representatives of the Animal and Plant Health Inspection Service will also participate in the workshops.

Additional Public Notification

Public awareness of all segments of rulemaking and policy development is important. Consequently, in an effort to better ensure that minorities, women, and persons with disabilities are aware of this notice; FSIS will announce it and make copies of this Federal Register publication available through the FSIS Constituent Update. FSIS provides a weekly Constituent Update, which is communicated via Listserv, a free e-mail subscription service. In addition, the update is available on-line through the Internet at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC on January 23, 2004.
Garry L. McKee,
Administrator.

[FR Doc. 04-1817 Filed 1-27-04; 8:45 am]

BILLING CODE 3410-DM-P